DEPARTMENT OF HEALTH AND HUMAN SERVICES

Administration for Children and Families

Submission for OMB Review; Comment Request

Title: Runaway and Homeless Youth Program Regulations.

OMB No.: New Collection.

Description: The Runaway and Homeless Youth program is administered by the Family and Youth Services Bureau (FYSB). The authorizing legislation for the Runaway and Homeless Youth (RHY) Program, Public Law 106-71 (42 U.S.C. 5701), Section 311, set forth provisions for awarding grants through a competitive process to public and nonprofit private entities (and combinations of such entities) to establish and operate local programs to provide services for runaway and homeless youth and their families. For the competitive grant making process, eligible entities are required to describe their goals, plans (scope of activities), capacities and other qualifications for receiving Federal funding to operate the type of youth services programs authorized under the RHY Act. The information is requested annually through the RHY Program Announcement. The program regulations implementing provisions of the RHY Act limit grants project period to three years (a limit not specified in the statue). The final rule would change the project periods from a maximum of three years to five years. The regulation change is technical in nature and will allow FYSB the flexibility and discretion to award some grants for five-year periods, instead of three years. The regulatory change will not increase the burden for any entities. The change will only affect the frequency of application submission.

Respondents: Community-based Organizations, States, and Tribes.

Annual Burden Estimates
Instrument | Number of respondents | Number of responses per respondent | Average burden hours per response | Total burden hours
Grant application | 500 | 1 | 20 | 10,000
Estimated total annual burden hours |  |  |  | 10,000

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, 725 17th Street, NW., Washington, DC 20503, Attn: Desk Officer for ACF.

Dated: October 26, 2000.
Bob Sargis,
Reports Clearance Officer.

[FR Doc. 00-27969 Filed 11-8-00; 8:45 am]

BILLING CODE 41841-01-M